FEDERAL COMMUNICATIONS COMMISSION

47 CFR Part 73

[DA 04-288; MB Docket No. 04-25; RM-10849]

Radio Broadcasting Services; Laughlin, Nevada and Meadview, AZ

AGENCY: Federal Communications Commission.

ACTION: Proposed rule.

SUMMARY: This document requests comments on a petition for rule making filed by Desert Sky Media, LLC, licensee of Station KVGS(FM), Laughlin, Nevada. The petition proposes the reallotment of Channel 300C from Laughlin to Meadview, Arizona, as the community's first local transmission service, and the modification of the license for Station KVGS(FM) to reflect the changes. The coordinates for Channel 300C at Meadview are 35-50-11 NL and 114-19-088 WL with a site restriction of 20.3 kilometers (12.6 miles) west of the community.

DATES: Comments must be filed on or before April 1, 2004, and reply comments on or before April 16, 2004.

ADDRESSES: Secretary, Federal Communications Commission, 445 12th Street, SW., Room TW-A325, Washington, DC 20554. In addition to filing comments with the FCC, interested parties should serve the petitioner's counsel, as follows: Lee J. Peltzman, Esq., Shainis & Peltzman, Chartered, 1850 M Street, NW., Suite 240, Washington, DC 20036; Mark N. Lipp, Esq., J. Thomas Nolan, Esq., Vinson & Elkins, LLP, 1455 Pennsylvania Avenue, NW., Suite 600, Washington, DC 20004-1008.

FOR FURTHER INFORMATION CONTACT: Victoria M. McCauley, Media Bureau, (202) 418-2180.

SUPPLEMENTARY INFORMATION: This is a synopsis of the Commission's Notice of Proposed Rule Making, MB Docket No. 04-25, adopted February 4, 2004, and released February 9, 2004. The full text of this Commission decision is available for inspection and copying during regular business hours in the FCC's Reference Information Center at Portals II, 445 12th Street, SW., CY-A257, Washington, DC, 20554. This document may also be purchased from the Commission's duplicating contractors, Qualex International, Portals II, 445 12th Street, SW., Room CY-B402, Washington, DC, 20554, telephone 202-863-2893, facsimile 202-863-2898, or via e-mail qualexint@aol.com. Channel 300C1 was allotted to Laughlin, Nevada in 1987. See 52 FR 38766, published October 19, 1987. The channel is not currently listed in the FM Table of Allotments, Section 73.202(b) under Nevada for the community of Laughlin. Station KVGS(FM) obtained a license for this channel on May 13, 1992. See BLH-19910903KD. Station KVGS(FM) currently operates on Channel 300C at Laughlin, Nevada because the station was granted a license to specify operation on Channel 300C in lieu of Channel 300C1 at Laughlin, Nevada on June 20, 2001. See BLH-20010327ABN.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

2. Section 73.202(b), the Table of FM Allotments under Arizona, is amended by adding Meadview, Channel 300C.

Federal Communications Commission.
John A. Karousos,
Assistant Chief, Audio Division, Media Bureau.

[FR Doc. 04-3966 Filed 2-23-04; 8:45 am]

BILLING CODE 6712-01-P